DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and discussions could disclose confidential trade secrets or commercial property such as patentable material, and personal information concerning individuals associated with the grant applications, the disclosure of which would constitute a clearly unwarranted invasion of personal privacy.

Name of Committee: National Institute of Dental and Craniofacial Research Special Emphasis Panel 06-13, Review R01

Date: November 10, 2005.

Time: 1:30 p.m. to 3:30 p.m.

Agenda: To review and evaluate grant applications.

Place: National Institutes of Health, Natcher Building, 45 Center Drive, Bethesda, MD 20892, (Telephone Conference Call).

Contact Person: Lynn M. King, PhD, Scientific Review Administrator, Scientific Review Branch, 45 Center Dr., Rm 4AN-32F, National Inst. of Dental & Craniofacial Research, National Institutes of Health, Bethesda, MD 20892-6402, 301-594-5006, lynn.king@nih.gov.

Name of Committee: National Institute of Dental and Craniofacial Research Special Emphasis Panel 06-03, Review PAR-04-091, R03s

Date: November 16, 2005.

Time: 1:30 p.m. to 2:30 p.m.

Agenda: To review and evaluate grant applications.

Place: National Institutes of Health, Natcher Building, 45 Center Drive, Bethesda, MD 20892, (Telephone Conference Call).

Contact Person: Lynn M. King, PhD, Scientific Review Administrator, Scientific Review Branch, 45 Center Dr., Rm 4AN-32F, National Inst. of Dental & Craniofacial Research, National Institutes of Health, Bethesda, MD 20892-6402, 301-594-5006, lynn.king@nih.gov.

Name of Committee: National Institute of Dental and Craniofacial Research Special Emphasis Panel 06-08, Review R21s (Pain)

Date: November 29, 2005.

Time: 2 p.m. to 5 p.m.

Agenda: To review and evaluate grant applications.

Place: National Institutes of Health, Natcher Building, 45 Center Drive, Bethesda, MD 20892, (Telephone Conference Call).

Contact Person: H. George Hausch, PhD, Acting Director, Scientific Review Branch, 45 Center Drive, Natcher Building, Rm. 4AN44F, National Inst. of Dental & Craniofacial Research, National Institutes of Health, Bethesda, MD 20892, (301) 594-2904, george_hausch@nih.gov.

Name of Committee: National Institute of Dental and Craniofacial Research Special Emphasis Panel 06-29, Review PAR-04-091, R03s

Date: December 5, 2005.

Time: 2:30 p.m. to 4:30 p.m.

Agenda: To review and evaluate grant applications.

Place: National Institutes of Health, Natcher Building, 45 Center Drive, Bethesda, MD 20892, (Telephone Conference Call).

Contact Person: Lynn M. King, Ph.D., Scientific Review Administrator, Scientific Review Branch, 45 Center Dr., Rm. 4AN-32F, National Inst. of Dental & Craniofacial Research, National Institutes of Health, Bethesda, MD 20892-6402, (301) 594-5006, lynn.king@nih.gov.

Name of Committee: National Institute of Dental and Craniofacial Research Special Emphasis Panel 06-09, Review R21s (Health Care)

Date: December 7, 2005.

Time: 3 p.m. to 5 p.m.

Agenda: To review and evaluate grant applications.

Place: National Institutes of Health, Natcher Building, 45 Center Drive, Bethesda, MD 20892, (Telephone Conference Call).

Contact Person: H. George Hausch, PhD, Acting Director, Scientific Review Branch, 45 Center Drive, Natcher Building, Rm. 4AN44F, National Inst. of Dental & Craniofacial Research, National Institutes of Health, Bethesda, MD 20892, (301) 594-2904, george_hausch@nih.gov.

Name of Committee: National Institute of Dental and Craniofacial Research Special Emphasis Panel 06-10, Review R21s (Cranio)

Date: December 8, 2005.

Time: 10 a.m. to 12 p.m.

Agenda: To review and evaluate grant applications.

Place: National Institutes of Health, Natcher Building, 45 Center Drive, Bethesda, MD 20892, (Telephone Conference Call).

Contact Person: H. George Hausch, PhD, Acting Director, Scientific Review Branch, 45 Center Drive, Natcher Building, Rm. 4AN44F, National Inst. of Dental & Craniofacial Research, National Institutes of Health, Bethesda, MD 20892, (301) 594-2904, george_ hausch@nih.gov.

Name of Committee: National Institute of Dental and Craniofacial Research Special Emphasis Panel 06-23, Review RFA DE06-001, Protein Profiles Oral Tissue HIV/AID

Date: December 8, 2005.

Time: 10:30 a.m. to 2:30 p.m.

Agenda: To review and evaluate grant applications.

Place: National Institutes of Health, Natcher Building, 45 Center Drive, Bethesda, MD 20892, (Telephone Conference Call).

Contact Person: Peter Zelazowski, PhD, Scientific Review Administrator, Scientific Review Branch, Division of Extramural Activities, National Inst. of Dental & Craniofacial Research, National Institutes of Health, Bethesda, MD 20892-6402, (301) 593-4861, peter.zelazowski@nih.gov.

(Catalogue of Federal Domestic Assistance Program Nos. 93.121, Oral Diseases and Disorders Research, National Institutes of Health, HHS)

Dated: October 13, 2005.
Anthony M. Coelho, Jr.,
Acting Director, Office of Federal Advisory Committee Policy.

[FR Doc. 05-21129 Filed 10-21-05; 8:45am]

BILLING CODE 4140-01-M